FEDERAL COMMUNICATIONS COMMISSION

Sunshine Act Meeting; Open Commission Meeting

November 30, 2010.

The Federal Communications Commission will hold an Open Meeting on the subjects listed below on Tuesday, November 30, 2010, which is scheduled to commence at 10:30 a.m. in Room TW-C305, at 445 12th Street, SW., Washington, DC.

Item No. | Bureau | Subject
1 | OFFICE OF ENGINEERING AND TECHNOLOGY | TITLE: Innovation in the Broadcast Television Bands: Allocations, Channel Sharing and Improvements to VHF. SUMMARY: The Commission will consider a Notice of Proposed Rulemaking seeking comment on rules to facilitate the most efficient use of the UHF and VHF TV bands. These proposals, an important step toward the agency's spectrum goals as outlined in the National Broadband Plan, would take steps to enable mobile broadband use within spectrum currently reserved for use by TV broadcasters, including through innovations such as channel sharing and generating increased value within the VHF band.
2 | OFFICE OF ENGINEERING AND TECHNOLOGY | TITLE: Promoting Expanded Opportunities for Radio Experimentation and Market Studies under Part 5 of the Commission's Rules and Streamlining Other Related Rules; 2006 Biennial Review of Telecommunications Regulations—Part 2 Administered by the Office of Engineering and Technology (OET) (ET Docket No. 06-105). SUMMARY: The Commission will consider a Notice of Proposed Rulemaking seeking comment on steps to promote innovation and efficiency in spectrum use under Part 5 Experimental Radio Service (ERS).
3 | OFFICE OF ENGINEERING AND TECHNOLOGY AND WIRELESS TELECOMMUNICATIONS | TITLE: Promoting More Efficient Use of Spectrum Through Dynamic Spectrum Use Technologies. SUMMARY: The Commission will consider a Notice of Inquiry seeking comment on promoting more intensive and efficient use of the radio spectrum, thereby potentially enabling more effective spectrum management, through dynamic spectrum use technologies.
4 | CONSUMER AND GOVERNMENTAL AFFAIRS | The Bureau will present an overview of the Twenty-First Century Communications and Video Accessibility Act, Public Law 111-260, the Commission's implementation plans, and demonstrate accessibility technologies.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Marlene H. Dortch,
Secretary, Federal Communications Commission.

[FR Doc. 2010-30169 Filed 11-24-10; 4:15 pm]

BILLING CODE P